COMMITTEE FOR THE IMPLEMENTATION OF TEXTILE AGREEMENTS

New Transshipment Charges for Certain Cotton, Wool, Man-Made Fiber, Silk Blend and Other Vegetable Fiber Textiles and Textile Products Produced or Manufactured in the People's Republic of China

December 6, 2000.

AGENCY: Committee for the Implementation of Textile Agreements (CITA).

ACTION: Issuing a directive to the Commissioner of Customs charging transshipments to 2000 limits.

EFFECTIVE DATE: December 15, 2000.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

In a notice published in the Federal Register on September 11, 1996 (61 FR 47892), CITA announced that Customs would be conducting investigations of transshipments of textiles produced in China and exported to the United States. Based on these investigations, the U.S. Customs Service has determined that textile products in certain categories, produced or manufactured in China and entered into the United States with the incorrect country of origin, were entered in circumvention of the Bilateral Textile Memorandum of Understanding (MOU) dated February 1, 1997 between the Governments of the United States and the People's Republic of China. Consultations were held between the Governments of the United States and the People's Republic of China on this matter on June 28-29, 2000 and October 30-31, 2000. In the letter published below, the Chairman of CITA directs the Commissioner of Customs to charge certain amounts to the 2000 quota levels.

U.S. Customs continues to conduct other investigations of such transshipments of textiles produced in China and exported to the United States. Any charges resulting from these investigations will be published in the Federal Register.

The U.S. Government is taking this action pursuant to the February 1, 1997 MOU between the Governments of the United States and the People's Republic of China.

A description of the textile and apparel categories in terms of HTS numbers is available in the CORRELATION: Textile and Apparel Categories with the Harmonized Tariff Schedule of the United States (see Federal Register notice 64 FR 71982, published on December 22, 1999). Also see 64 FR 69228, published on December 10, 1999.

Richard B. Steinkamp,
Chairman, Committee for the Implementation of Textile Agreements.

Committee for the Implementation of Textile Agreements

December 6, 2000.

Commissioner of Customs,

Department of the Treasury, Washington, DC 20229.

Dear Commissioner: To facilitate implementation of the Bilateral Textile Memorandum of Understanding dated February 1, 1997, between the Governments of the United States and the People's Republic of China, you are directed, effective on December 15, 2000, to charge the following amounts to the following categories for the 2000 restraint period (see directive dated December 6, 1999):

Category | Amounts to be charged
237 | 76 dozen.
239 | 25,582 kilograms.
331 | 23,206 dozen pairs.
336 | 79 dozen.
338/339 | 29,743 dozen.
338-S/339-S | 37,766 dozen.
340 | 468 dozen.
340-Z | 781 dozen.
341 | 1,505 dozen.
341-Y | 85 dozen.
345 | 281 dozen.
347/348 | 8,536 dozen.
350 | 150 dozen.
352 | 6,784 dozen.
359-O | 11,763 kilograms.
433 | 435 dozen.
435 | 42 dozen.
438 | 360 dozen.
442 | 45 dozen.
445/446 | 1,021 dozen.
448 | 37 dozen.
459 | 2,010 kilograms.
634 | 559 dozen.
635 | 1,211 dozen.
636 | 41 dozen.
638/639 | 942 dozen.
640 | 238 dozen.
641 | 11,425 dozen.
642 | 24 dozen.
645/646 | 1,355 dozen.
647 | 211 dozen.
648 | 712 dozen.
649 | 2,457 dozen.
652 | 12,026 dozen.
659-H | 2,955 kilograms.
659-O | 118 kilograms.
670-L | 18,274 kilograms.
835 | 25 dozen.
836 | 14 dozen.
838 | 1,863 dozen.
840 | 221 dozen.
842 | 1 dozen.
845 | 1,603 dozen.
847 | 552 dozen.
859 | 7 kilograms.

The Committee for the Implementation of Textile Agreements has determined that these actions fall within the foreign affairs exception to the rulemaking provisions of 5 U.S.C.553(a)(1).

Sincerely,

Richard B. Steinkamp,

Chairman, Committee for the Implementation of Textile Agreements.

[FR Doc. 00-31456 Filed 12-11-00; 8:45 am]

BILLING CODE 3510-DR-F